DEPARTMENT OF ENERGY

Federal Energy Regulatory Commission

[Docket No. CP02-96-000]

Columbia Gas Transmission Corporation; Notice of Application

March 8, 2002.

Take notice that on February, 27, 2002, Columbia Gas Transmission Corporation (Columbia), 12801 Fair Lakes Parway, Fairfax, Virginia 22030-0146, filed in Docket No. CP02-96-000 pursuant to Section 7(b) of the Natural Gas Act (NGA), for permission and approval to abandon by sale to Hydrocarbon Generation, Incorporated (Hydrocarbon) natural gas facilities, known as the Sheldon System, located in Wyoming County, New York, as well as the service provided through such facilities. In addition, Columbia requests that the Commission find the abandoned facilities to be gathering and therefore exempt from the Commission's jurisdiction, all as more fully set forth in the application which is on file with the Commission and open to public inspection. This filing may also be viewed on the Web at http://www.ferc.gov using the “RIMS” link, select “Docket#” and follow the instructions (call 202-208-2222 for assistance).

Columbia states that on February 20, 2002, Columbia and Hydrocarbon signed a Purchase and Sale Agreement, which provides for the sale of the Sheldon System consisting of 15 miles of pipelines ranging in diameter from 4-inch to 10-inch and appurtenances. The Sheldon System was part of Columbia's former Project Penny facilities, which were developed in the mid 1970's and 1980's for the purpose of accessing production volumes to satisfy the supply needs of Columbia's customers. In Docket No. CP98-569-000, Columbia was given authorization to abandon by sale all but two parts of the Project Penny facilities, one being the Sheldon System and another which has not yet been sold. Columbia states that the Sheldon System is not connected to any part of Columbia's system. Columbia receives the volumes of local production from producers such as Hydrocarbon and the gas that is received is largely consumed by local markets. Any volumes that are not consumed are delivered to National Fuel for delivery to Columbia by displacement.

According to Columbia, the facilities will be sold for a negotiated amount of $50,000. Columbia states that it does not propose the abandonment of service to customers other than those currently served directly from the facilities. Once the facilities are acquired, Hydrocarbon intends to operate the facilities as a natural gas gatherer providing gathering and related services. According to Columbia, Hydrocarbon has agreed to assume any obligation Columbia may have to provide service to customers receiving service through the facilities, on terms and conditions acceptable to both Hydrocarbon and the customers. Therefore, Columbia states that it does not anticipate any material change to, or interruption in, the services currently being provided to customers through the facilities. Columbia states that there are no firm contracts or mainline tap consumers served from the facilities.

Any questions regarding the application should be directed to Fredric J. George, Senior Attorney, Columbia Gas Transmission Corporation, P.O. Box 1273, Charleston, West Virginia 22030-0146 at (304) 357-2359.

There are two ways to become involved in the Commission's review of this project. First, any person wishing to obtain legal status by becoming a party to the proceedings for this project should, on or before March 29, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest. However, the non-party commenters will not receive copies of all documents filed by other parties or issued by the Commission (except for the mailing of environmental documents issued by the Commission) and will not have the right to seek court review of the Commission's final order.

Comments, protests and interventions may be filed electronically via the Internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-6245 Filed 3-15-02; 8:45 am]

BILLING CODE 6717-01-P